DEPARTMENT OF ENERGY

Federal Energy Regulatory Commission

[Docket No. RP00-463-000]

Williston Basin Pipeline Company; Notice of Technical Conference

January 19, 2001.

On August 15, 2000, Williston Basin Pipeline Company (Williston Basin) made a filing to comply with Order No. 637. Several parties have protested various aspects of Williston Basin's filing.

Take notice that a technical conference to discuss the various issues raised by Williston Basin's filing will be held on Tuesday, March 6, 2001, at 9:00 a.m., in a room to be designated at the offices of the Federal Energy Regulatory Commission, 888 First Street, NE., Washington, DC 20426. Persons protesting any aspects of Williston Basin's filing should be prepared to defend their positions as well as discuss alternatives.

All interested persons are permitted to attend. To assist Staff in compiling a list of attendees for distribution at the conference, please e-mail esref.bilgihan@ferc.fed.us stating your name, the name of the entity you represent, the names of the persons who will be accompanying you, and an e-mail address and telephone number where you can be reached.

The issues to be discussed will include but are not limited to segmentation, flexible point rights, mainline priority at secondary points, discount provisions, imbalance services, penalties, and operational flow orders.

The above schedule may be changed as circumstances warrant.

David P. Boergers,
Secretary.

[FR Doc. 01-2298 Filed 1-24-01; 8:45 am]

BILLING CODE 6717-01-M